DEPARTMENT OF THE INTERIOR

National Park Service

Notice of Inventory Completion: U.S. Department of Defense, Army Corps of Engineers, Portland District, Portland, OR and University of Oregon Museum of Natural and Cultural History, Eugene, OR

AGENCY: National Park Service, Interior.

ACTION: Notice.

Notice is here given in accordance with the Native American Graves Protection and Repatriation Act (NAGPRA), 25 U.S.C. 3003, of the completion of an inventory of human remains for which the University of Oregon Museum of Natural and Cultural History, Eugene, OR, and U.S. Department of Defense, Army Corps of Engineers, Portland District, Portland, OR, have joint responsibility. The human remains were removed from a site on Army Corps of Engineers land within the Fern Ridge Reservoir project area, Lane County, OR.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the University of Oregon Museum of Natural and Cultural History and U.S. Army Corps of Engineers, Portland District professional staff in consultation with representatives of the Confederated Tribes of the Grand Ronde Community of Oregon; and Confederated Tribes of the Siletz Reservation, Oregon.

Native American human remains described in this notice were excavated under an Antiquities Act permit by the University of Oregon, Eugene, OR, on Army Corps of Engineers project lands. Following excavations at the site described below, and under the provisions of the permit, the University of Oregon retained the human remains for preservation.

In 1950, human remains representing one individual were removed from site 35-LA-282, also known as the Perkins Peninsula Site, Lane, OR, during excavations by the University of Oregon prior to construction of the proposed Fern Ridge Reservoir. No known individual was identified. No associated funerary objects are present.

Site 35-LA-282 is believed to have been used as a habitation site during an undetermined prehistoric period based on the presence of features and artifacts observed within the site. No evidence of a formal burial with associated funerary objects was found at the site. Based on the location of the human remains within the site, the individual has been determined to be Native American.

Ethnographic records suggest the area surrounding site 35-LA-282 was likely occupied by Kalapuya bands during the early Contact Period. Site 35-LA-282 is within or near the traditional lands of Kalapuyan peoples whose descendants are culturally affiliated with the present-day members of the Confederated Tribes of the Grand Ronde Community of Oregon and/or Confederated Tribes of the Siletz Reservation, Oregon.

The Confederated Tribes of the Grand Ronde Community of Oregon include at least 26 tribes and bands whose ancestral homelands span across western Oregon, southwestern Washington and northern California. The Grand Ronde tribes and bands include the Rogue River, Umpqua, Chasta, Kalapuya, Molala, Clackamas, Salmon River, Tillamook, and Nestucca, as well as other smaller groups. At the time of contact, the individual groups spoke 30 dialects of the Athapascan, Chinookan, Kalapuyan, Takelman, Molalan, Sahaptin, Salishan, and Shastan language families. In 1856-1857, the U.S. Government forcibly relocated the Grand Ronde peoples to the Grand Ronde Reservation at the headwaters of the South Yamhill River in Yamhill and Polk Counties, OR. The Confederated Tribes of the Grand Ronde Community of Oregon were first incorporated in 1935, terminated from federal recognition in 1954, and restored with tribal recognition in 1983.

The Confederated Tribes of the Siletz Reservation, Oregon are a confederation of 30 bands whose ancestral territory ranged along the entire Oregon coast and Coast Range, inland to the main divide of the Cascade Range and south to the Rogue River watershed. The principal tribes include the Clatsop, Chinook, Klickitat, Molala, Kalapuya, Tillamook, Alsea, Siuslaw/Lower Umpqua, Coos, Coquille, Upper Umpqua, Tututni, Chetco, Tolowa, Takelma or Upper Rogue River, Galice/Applegate, and Shasta. The ancestors of these tribes spoke at least 10 different base languages, many with strong dialectic divisions even within the same language. In general, five linguistic stocks - Salish, Yakonan, Kusan, Takelman, and Athapascan - are represented by the tribes. The tribes were forcibly removed from their homelands in 1855 by the U.S. Government and placed on the Siletz and Grand Ronde reservations. After having their tribal status terminated from federal recognition in 1954, the Confederated Tribes of the Siletz Reservation, Oregon were officially restored in 1977.

Officials of the U.S. Army Corps of Engineers, Portland District have determined that, pursuant to 25 U.S.C. 3001 (9-10), the human remains described above represent the physical remains of one individual of Native American ancestry. Officials of the U.S. Army Corps of Engineers, Portland District also have determined that, pursuant to 25 U.S.C. 3001 (2), there is a relationship of shared group identity that can be reasonably traced between the Native American human remains and the Confederated Tribes of the Grand Ronde Community of Oregon and/or Confederated Tribes of the Siletz Reservation, Oregon.

Representatives of any other Indian tribe that believes itself to be culturally affiliated with the human remains should contact Daniel Mulligan, NAGPRA Coordinator, Environmental Resources Branch, U.S. Army Corps of Engineers, Portland District, P.O. Box 2946, Portland, OR 97208-2946, telephone (503) 808-4768, before April 13, 2009. Repatriation of the human remains to the Confederated Tribes of the Grand Ronde Community of Oregon and/or Confederated Tribes of the Siletz Reservation, Oregon may proceed after that date if no additional claimants come forward.

The U.S. Army Corps of Engineers, Portland District is responsible for notifying the Confederated Tribes of the Grand Ronde Community of Oregon and Confederated Tribes of the Siletz Reservation, Oregon that this notice has been published.

Dated: January 26, 2009
Sherry Hutt,
Manager, National NAGPRA Program.

[FR Doc. E9-5338 Filed 3-11-09; 8:45 am]

BILLING CODE 4312-50-S